ENVIRONMENTAL PROTECTION AGENCY

[FRL-6531-8]

Board of Scientific Counselors, Executive Committee Meeting

AGENCY: Environmental Protection Agency (EPA).

ACTION: Cancellation of Meeting.

SUMMARY: Pursuant to the Federal Advisory Committee Act, Public Law 92-463, as amended (5 U.S.C., App. 2) notification is hereby given that the Environmental Protection Agency, Office of Research and Development (ORD), The Board of Scientific Counselors (BOSC), Executive Committee Meeting, scheduled for February 9-10, 2000 is hereby canceled. This meeting announcement was published in the Federal Register on January 25, 2000 at 65 FR 3959.

FOR FURTHER INFORMATION CONTACT: Shirley R. Hamilton, Designated Federal Officer, U.S. Environmental Protection Agency, Office of Research and Development, NCERQA (MC 8701R), 401 M Street, S.W., Washington, D.C. 20460, (202) 564-6853.

Dated: January 27, 2000.
Peter W. Preuss, Ph.D.,
Director, National Center for Environmental Research and Quality Assurance.

[FR Doc. 00-2279 Filed 2-1-00; 8:45 am]

BILLING CODE 6560-50-M